SECURITIES AND EXCHANGE COMMISSION

Submission for OMB Review; Comment Request

Upon Written Request Copies Available From: Securities and Exchange Commission, Office of FOIA Services, 100 F Street NE, Washington, DC 20549-2736.

Extension:

Form S-3, SEC File No. 270-061, OMB Control No. 3235-0073.

Notice is hereby given that, pursuant to the Paperwork Reduction Act of 1995 (44 U.S.C. 3501 et seq.), the Securities and Exchange Commission (“Commission”) has submitted to the Office of Management and Budget request for extension of the previously approved collection of information discussed below.

Form S-3 (17 CFR 239.13) is used by issuers to register securities pursuant to the Securities Act of 1933 (15 U.S.C. 77a et seq.). Form S-3 provides investors with material information to make investment decisions regarding securities offered to the public. Form S-3 takes approximately 472.48 hours per response and is filed by approximately 1,657 issuers annually. We estimate that 25% of the 472.48 hours per response (118.12 hours) is prepared by the issuer for a total annual reporting burden of 195,725 hours (118.12 hours per response × 1,657 responses).

An agency may conduct or sponsor, and a person is not required to respond to, a collection of information unless it displays a currently valid control number.

The public may view the background documentation for this information collection at the following website, www.reginfo.gov . Comments should be directed to: (i) Desk Officer for the Securities and Exchange Commission, Office of Information and Regulatory Affairs, Office of Management and Budget, Room 10102, New Executive Office Building, Washington, DC 20503, or by sending an email to: Shagufta_Ahmed@omb.eop.gov; and (ii) Pamela Dyson Director/Chief Information Officer, Securities and Exchange Commission, c/o Remi Pavlik-Simon, 100 F Street NE, Washington DC 20549 or send an email to: PRA_Mailbox@sec.gov. Comments must be submitted to OMB within 30 days of this notice.

Dated: March 14, 2018.
Eduardo A. Aleman,
Assistant Secretary.

[FR Doc. 2018-05527 Filed 3-16-18; 8:45 am]

BILLING CODE 8011-01-P